DEPARTMENT OF ENERGY

Federal Energy Regulatory Commission

[Docket No. AD19-12-000]

Security Investments for Energy Infrastructure Technical Conference; Notice Inviting Post-Technical Conference Comments

On Thursday, March 28, 2019, the Federal Energy Regulatory Commission and the United States Department of Energy convened a Commissioner- and DOE senior official-led technical conference to discuss current cyber and physical security practices used to protect energy infrastructure and to explore how Federal and State authorities can provide incentives and cost recovery for security investments in energy infrastructure, particularly for the electric and natural gas sectors.

Specifically, the technical conference was aimed at better understanding (1) the types of cyber and physical security threats to energy infrastructure, particularly electric transmission, generation, and natural gas pipelines; (2) the need for security investments that go beyond those measures already required by mandatory reliability standards, including in infrastructure not subject to those standards (e.g., natural gas pipelines); (3) how the costs of such investments are or could be recovered; and (4) whether additional incentives for making such investments are needed, and if so, how those incentives should be designed.

All interested persons are invited to file post-technical conference comments on the topics discussed during the technical conference, including the questions listed in the Supplemental Notices issued in this proceeding on March 1, 2019 and March 21, 2019. Commenters need not respond to all questions asked. Commenters should organize responses consistent with the numbering of the questions in the Supplemental Notices and identify to what extent their responses are generally applicable. Commission staff may post additional follow-up questions related to those panels if deemed necessary. In addition, commenters are encouraged, when possible, to provide specific examples and data in support of their answers. Comments must be submitted on or before 30 days from the date of this notice and should not exceed 30 pages.

For further information about this Notice, please contact: Carolyn R. Templeton, Office of Energy Infrastructure Security, Federal Energy Regulatory Commission, 888 First Street NE, Washington, DC 20426, (202) 502-8785, carolyn.templeton@ferc.gov.

Dated: April 25, 2019.
Kimberly D. Bose,
Secretary.

[FR Doc. 2019-08792 Filed 4-30-19; 8:45 am]

BILLING CODE 6717-01-P